DEPARTMENT OF THE INTERIOR

National Park Service

[NPS-WASO-NAGPRA-NPS0024164; PPWOCRADN0-PCU00RP14.R50000]

Notice of Intent To Repatriate Cultural Items: Museum of Texas Tech University, Lubbock, TX

AGENCY: National Park Service, Interior.

ACTION: Notice.

SUMMARY: The Museum of Texas Tech University, in consultation with the appropriate Indian Tribes or Native Hawaiian organizations, has determined that the cultural items listed in this notice meet the definition of sacred objects. Lineal descendants or representatives of any Indian Tribe or Native Hawaiian organization not identified in this notice that wish to claim these cultural items should submit a written request to the Museum of Texas Tech University. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Museum of Texas Tech University at the address in this notice by December 8, 2017.

ADDRESSES: Dr. Eileen Johnson, Museum of Texas Tech University, 3301 4th Street, Box 43191, Lubbock, TX 79409-3191, telephone (806) 742-2442, email eileen.johnson@ttu.edu.

SUPPLEMENTARY INFORMATION: Notice is here given in accordance with the Native American Graves Protection and Repatriation Act (NAGPRA), 25 U.S.C. 3005, of the intent to repatriate cultural items under the control of the Museum of Texas Tech University, Lubbock, TX, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 39 cultural items were removed from multiple unknown locations. Of these, 38 of the cultural items were purchased by Dr. Lou Dunn Diekemper from the Morning Star Gallery in Santa Fe, NM, between 1985 and 1987. The history of these cultural items prior to being acquired by the Morning Star Gallery is unknown. Dr. Lou Dunn Diekemper donated these items to the Museum of Texas Tech University in 2006. The remaining item was purchased by Evelyn Davies in 2004 from the Adobe Gallery in Santa Fe, NM. The history of this object prior to being acquired by the Adobe Gallery is unknown. Evelyn Davies donated this item to the Museum of Texas Tech University in 2016. The 39 sacred items are 4 pahoes, 1 bandolier bag, and 3 jish and their contents that make up the remaining 31 items.

Representatives of the Navajo Nation, Arizona, New Mexico & Utah examined records for these items, and consider them all to be sacred objects and objects of cultural patrimony belonging to the Navajo people. These representatives confirmed that Navajo jish are still in ceremonial use by the Navajo today, and can be possessed only by someone with proper ceremonial knowledge. Information from the Morning Star Gallery associated with the cultural items states that they are Navajo items intended for ceremonial use, and this information is consistent with related accession, catalog, and documentary information maintained by the Museum of Texas Tech University.

Determinations Made by the Museum of Texas Tech University

Officials of the Museum of Texas Tech University have determined that:

• Pursuant to 25 U.S.C. 3001(3)(C), the 39 cultural items described above are specific ceremonial objects needed by traditional Native American religious leaders for the practice of traditional Native American religions by their present-day adherents.

• Pursuant to 25 U.S.C. 3001(2), there is a relationship of shared group identity that can be reasonably traced between the sacred objects and Navajo Nation, Arizona, New Mexico & Utah.

Additional Requestors and Disposition

Lineal descendants or representatives of any Indian Tribe or Native Hawaiian organization not identified in this notice that wish to claim these cultural items should submit a written request with information in support of the claim to Dr. Eileen Johnson, Museum of Texas Tech University, 3301 4th Street, Box 43191, Lubbock, TX 79409-3191, telephone (806) 742-2442, email eileen.johnson@ttu.edu, by December 8, 2017. After that date, if no additional claimants have come forward, transfer of control of the sacred objects to Navajo Nation, Arizona, New Mexico & Utah may proceed.

The Museum of Texas Tech University is responsible for notifying the Navajo Nation, Arizona, New Mexico & Utah that this notice has been published.

Dated: September 15, 2017.
Melanie O'Brien,
Manager, National NAGPRA Program.

[FR Doc. 2017-24232 Filed 11-7-17; 8:45 am]

BILLING CODE 4312-52-P